DEPARTMENT OF DEFENSE

Office of the Secretary

[Docket ID: DoD-2024-OS-0144]

Privacy Act of 1974; System of Records

AGENCY: Office of the Secretary of Defense, Department of Defense (DoD).

ACTION: Notice of a modified system of records.

SUMMARY: In accordance with the Privacy Act of 1974, the DoD is modifying and reissuing a current system of records titled, “Pentagon Facilities Parking Program,” DWHS D04. This system of records was originally established to manage the Pentagon Facilities Parking Program for DoD civilian, military, and contractor personnel applying for and in receipt of Pentagon parking permits. Records are also used to ensure DoD military personnel and civilians are not in receipt of both an issued parking pass and mass transit benefits. This system of records is being updated to expand the categories of records collected. DoD is also updating the System of Records Notice (SORN) to add the standard DoD routine uses (routine uses A through J). Lastly, the DoD is also modifying various other sections within the SORN to improve clarity or update information that has changed.

DATES: This system of records is effective upon publication; however, comments on the Routine Uses will be accepted on or before January 22, 2025. The Routine Uses are effective at the close of the comment period.

ADDRESSES: You may submit comments, identified by docket number and title, by either of the following methods:

* Federal Rulemaking Portal: https://www.regulations.gov. Follow the instructions for submitting comments.

* Mail: Department of Defense, Office of the Assistant to the Secretary of Defense for Privacy, Civil Liberties, and Transparency, Regulatory Directorate, 4800 Mark Center Drive, Attn: Mailbox 24, Suite 05F16, Alexandria, VA 22350-1700.

Instructions: All submissions received must include the agency name and docket number for this Federal Register document. The general policy for comments and other submissions from members of the public is to make these submissions available for public viewing on the internet at https://www.regulations.gov as they are received without change, including any personal identifiers or contact information.

FOR FURTHER INFORMATION CONTACT: Jeanette Whiten, Privacy and Civil Liberties Officer, Records and Declassification Division, (571) 372-0937, 4800 Mark Center Drive, Suite 02F09-02, Alexandria, VA 22350, whs.mc-alex.rsrcmgmt.list.esd-osd-js-privacy-office-mbx@mail.mil.

SUPPLEMENTARY INFORMATION:

I. Background

The Pentagon's parking program is designed to manage the large number of vehicles belonging to employees, military personnel, and visitors who are authorized to park at the Pentagon Reservation (to include the Pentagon, Mark Center, and Suffolk Building). This system of records is being updated to expand the categories of records collected. Additionally, DoD is updating the SORN to add the standard DoD routine uses (routine uses A through J). Other sections of this SORN are being modified as follows: (1) System Manager and System Location sections to update the address and office name; (2) Authority for Maintenance of the System to update citation(s) and add additional authorities; (3) Categories of Records in the System to remove the social security number (SSN); (4) Policies and Practices for retrieval of Records to remove the SSN and add a data element; (5) Policies and Practices for Retention and Disposal of Records to update the retention period which the records are maintained; (6) Record Access Procedures to update the procedures for accessing the records; and (7) Contesting Record Procedures to update the appropriate citation for contesting records. Furthermore, this notice includes non-substantive changes to simplify the formatting and text of the previously published notice.

DoD SORNs have been published in the Federal Register and are available from the address in FOR FURTHER INFORMATION CONTACT or at the Office of the Assistant to the Secretary of Defense for Privacy, Civil Liberties, and Transparency (OATSD(PCLT)) website at https://dpcld.defense.gov/privacy.

II. Privacy Act

Under the Privacy Act, a “system of records” is a group of records under the control of an agency from which information is retrieved by the name of an individual or by some identifying number, symbol, or other identifying particular assigned to the individual. In the Privacy Act, an individual is defined as a U.S. citizen or lawful permanent resident.

In accordance with 5 U.S.C. 552a(r) and Office of Management and Budget (OMB) Circular No. A-108, OATSD(PCLT) has provided a report of this system of records to the OMB and to Congress.

Dated: December 18, 2024.
Aaron T. Siegel,
Alternate OSD Federal Register Liaison Officer, Department of Defense.

SYSTEM NAME AND NUMBER:

Pentagon Facilities Parking Program, DWHS D04.

SECURITY CLASSIFICATION:

Unclassified.

SYSTEM LOCATION:

Department of Defense (Department or DoD), located at 1000 Defense Pentagon, Washington, DC 20301-1000, and other Department installations, offices, or mission locations. Information may also be stored within a government-certified cloud, implemented and overseen by the Department's Chief Information Officer (CIO), 6000 Defense Pentagon, Washington, DC 20301-6000.

SYSTEM MANAGER(S):

Chief, Parking Management Office, Washington Headquarters Services, 1155 Defense Pentagon, Washington, DC 20301-1155.

AUTHORITY FOR MAINTENANCE OF THE SYSTEM:

10 U.S.C. 113, Secretary of Defense; 10 U.S.C. 2674, Operation and Control of Pentagon Reservation and Defense Facilities in National Capital Region; DoD Directive 5105.53, Director of Administration and Management (DA&M); DoD Directive 5110.04, Washington Headquarters Services (WHS); Administrative Instruction 88, Pentagon Reservation Vehicle Parking Program.

PURPOSE(S) OF THE SYSTEM:

To manage the Pentagon Facilities Parking Program for DoD civilian, military, and contractor personnel applying for and in receipt of Pentagon parking permits. Records are also used to ensure DoD military personnel and civilians are not in receipt of both an issued parking pass and mass transit benefits.

CATEGORIES OF INDIVIDUALS COVERED BY THE SYSTEM:

All DoD civilians, military, and contractors holding DoD parking permits, participating in DoD carpools, or are otherwise authorized to park at the Pentagon Reservation (to include the Pentagon, Mark Center, and Suffolk Building). This includes concessionaires and custodial workers who are authorized to park at Pentagon Facilities.

CATEGORIES OF RECORDS IN THE SYSTEM:

Full name, DoD ID Number, work email address, rank/grade, work location, work telephone number, home address, vehicle registration, vehicle identification number, organizational affiliation, vehicle license plate number, state, assigned system number, and parking permit number.

RECORD SOURCE CATEGORIES:

Individual.

ROUTINE USES OF RECORDS MAINTAINED IN THE SYSTEM, INCLUDING CATEGORIES OF USERS AND PURPOSES OF SUCH USES:

In addition to those disclosures generally permitted under 5 U.S.C. 552a(b) of the Privacy Act of 1974, as amended, all or a portion of the records or information contained herein may specifically be disclosed outside the DoD as a routine use pursuant to 5 U.S.C. 552a(b)(3) as follows:

A. To contractors, grantees, experts, consultants, students, and others performing or working on a contract, service, grant, cooperative agreement, or other assignment for the Federal Government when necessary to accomplish an agency function related to this system of records.

B. To the appropriate Federal, State, local, territorial, tribal, foreign, or international law enforcement authority or other appropriate entity where a record, either alone or in conjunction with other information, indicates a violation or potential violation of law, whether criminal, civil, or regulatory in nature.

C. To any component of the Department of Justice for the purpose of representing the DoD, or its components, officers, employees, or members in pending or potential litigation to which the record is pertinent.

D. In an appropriate proceeding before a court, grand jury, or administrative or adjudicative body or official, when the DoD or other Agency representing the DoD determines that the records are relevant and necessary to the proceeding; or in an appropriate proceeding before an administrative or adjudicative body when the adjudicator determines the records to be relevant to the proceeding.

E. To the National Archives and Records Administration for the purpose of records management inspections conducted under the authority of 44 U.S.C. 2904 and 2906.

F. To a Member of Congress or staff acting upon the Member's behalf when the Member or staff requests the information on behalf of, and at the request of, the individual who is the subject of the record.

G. To appropriate agencies, entities, and persons when (1) the DoD suspects or confirms a breach of the system of records; (2) the DoD determines as a result of the suspected or confirmed breach there is a risk of harm to individuals, the DoD (including its information systems, programs, and operations), the Federal Government, or national security; and (3) the disclosure made to such agencies, entities, and persons is reasonably necessary to assist in connection with the DoD's efforts to respond to the suspected or confirmed breach or to prevent, minimize, or remedy such harm.

H. To another Federal agency or Federal entity, when the DoD determines that information from this system of records is reasonably necessary to assist the recipient agency or entity in (1) responding to a suspected or confirmed breach or (2) preventing, minimizing, or remedying the risk of harm to individuals, the recipient agency or entity (including its information systems, programs and operations), the Federal Government, or national security, resulting from a suspected or confirmed breach.

I. To another Federal, State or local agency for the purpose of comparing to the agency's system of records or to non-Federal records, in coordination with an Office of Inspector General in conducting an audit, investigation, inspection, evaluation, or some other review as authorized by the Inspector General Act of 1978, as amended.

J. To such recipients and under such circumstances and procedures as are mandated by Federal statute or treaty.

POLICIES AND PRACTICES FOR STORAGE OF RECORDS:

Paper file folders and electronic storage media.

POLICIES AND PRACTICES FOR RETRIEVAL OF RECORDS:

Full name, assigned system number, work email address, parking permit number, and vehicle tag number.

POLICIES AND PRACTICES FOR RETENTION AND DISPOSAL OF RECORDS:

Temporary. Cut off and destroy upon immediate collection once the temporary credential or card is returned for potential reissuance due to nearing expiration or not to exceed 6 months from time of issuance or when individual no longer requires access, whichever is sooner.

ADMINISTRATIVE, TECHNICAL, AND PHYSICAL SAFEGUARDS:

Records are maintained in controlled areas accessible only to authorized DoD personnel, including system users, system administrators, and authorized contractors who have a need-to-know in the performance of official duties and who are properly screened and cleared. Physical entry is restricted by the use of locks, guards, identification badges, key cards and closed-circuit TV. Paper records are stored in locked cabinets in secured offices. Access to personal information is further restricted by the use of Common Access Card and user ID/passwords, intrusion detection system, encryption, and firewalls. Administrative procedures include periodic security audits, regular monitoring of users' security practices, methods to ensure only authorized personnel access to Personally Identifiable Information (PII) and encryption of back-up and recovery Standard Operating Procedures.

RECORD ACCESS PROCEDURES:

Individuals seeking access to information about themselves contained in this system of records should address written inquiries to Office of the Secretary of Defense/Joint Staff, Freedom of Information Requester Service Center, Office of Freedom of Information, 1155 Defense Pentagon, Washington, DC 20301-1155, Fax (571) 372-0500. FOIA website: https://www.esd.whs.mil/FOID/Submit-Request. Signed, written requests should include the name and number of this system of records notice, the case number (if available), date of request, title/subject of submitted document, or author's full name, current address, and email address of the individual. In addition, the requester must provide either a notarized statement or an unsworn declaration made in accordance with 28 U.S.C. 1746, in the appropriate format:

If executed outside the United States: “I declare (or certify, verify, or state) under penalty of perjury under the laws of the United States of America that the foregoing is true and correct. Executed on (date). (Signature).”

If executed within the United States, its territories, possessions, or commonwealths: “I declare (or certify, verify, or state) under penalty of perjury that the foregoing is true and correct. Executed on (date). (Signature).”

CONTESTING RECORD PROCEDURES:

The DoD rules for accessing records, contesting contents, and appealing initial Component determinations are contained in 32 CFR part 310, or may be obtained from the system manager.

NOTIFICATION PROCEDURES:

Individuals seeking to determine whether information about themselves is contained in this system of records should follow the instructions for Record Access Procedures above.

EXEMPTIONS PROMULGATED FOR THE SYSTEM:

None.

HISTORY:

October 20, 2010, 75 FR 64713; February 11, 2016, 81 FR 7325.

[FR Doc. 2024-30615 Filed 12-20-24; 8:45 am]

BILLING CODE 6001-FR-P